FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011284-065.

Title: Ocean Carrier Equipment Management Association Agreement.

Parties: APL Co. Pte. Ltd.; American President Lines, Ltd.; A.P. Moller-Maersk A/S; CMA CGM, S.A.; Atlantic Container Line; China Shipping Container Lines Co., Ltd.; China Shipping Container Lines (Hong Kong) Co., Ltd.; Companhia Libra de Navegacao; Compania Libra de Navegacion Uruguay S.A.; Compania Sudamericana de Vapores, S.A.; COSCO Container Lines Company Limited; Crowley Maritime Corporation; Evergreen Line Joint Service Agreement; Hamburg-Süd; Hapag-Lloyd USA LLC; Hanjin Shipping Co., Ltd.; Hyundai Merchant Marine Co. Ltd.; Kawasaki Kisen Kaisha, Ltd.; Mitsui O.S.K. Lines Ltd.; Nippon Yusen Kaisha Line; Norasia Container Lines Limited; Orient Overseas Container Line Limited; Yang Ming Marine Transport Corp.; and Zim Integrated Shipping Services, Ltd.

Filing Party: Jeffrey F. Lawrence, Esq.; Sher & Blackwell LLP; 1850 M Street, NW.; Suite 900; Washington, DC 20036.

Synopsis: The amendment would add Mediterranean Shipping Company SA as a party to the agreement. The parties request expedited review.

Agreement No.: 012028.

Title: WWL/Hoegh Middle East Space Charter Agreement.

Parties: Hoegh Autoliners AS and Wallenius Wilhelmsen Logistics AS.

Filing Party: Wayne R. Rohde, Esq.; Sher & Blackwell LLP; 1850 M Street, NW., Suite 900; Washington, DC 20036.

Synopsis: The Agreement would authorize the parties to charter space between one another from the U.S. Atlantic coast to ports in countries bordering the Red Sea and Arabian Gulf.

Agreement No.: 201160-001.

Title: Marine Terminal Lease and Operating Agreement Between Broward County and Mediterranean Shipping Company, S.A.

Parties: Broward County, Florida, and Mediterranean Shipping Company, S.A.

Filing Party: Candace J. McCann; Broward County Board of County Commissioners; Office of the County Attorney; 1850 Eller Drive, Suite 502; Fort Lauderdale, FL 33316.

Synopsis: The agreement provides for revisions to the demised premises section, rental and minimum guaranteed payment terms, and other additional terms and conditions of the agreement.

Agreement No.: 201178.

Title: Los Angeles/Long Beach Port/Terminal Operator Administration and Implementation Agreement.

Parties: The West Coast MTO Agreement; The City of Los Angeles, acting by and through its Board of Harbor Commissioners; and The City of Long Beach, acting by and through its Board of Harbor Commissioners.

Filing Party: David F. Smith, Esq.; Sher & Blackwell LLP; 1850 M Street, NW.; Suite 900; Washington, DC 20036; and C. Jonathan Benner, Esq.; Troutman Sanders LLP; 401 9th Street, NW.; Washington, DC 20004.

Synopsis: The Agreement would authorize the parties to discuss and reach agreement on implementation and/or administration of various portions of the Clean Air Action Programs that have been adopted by the Ports' Boards of Harbor Commissioners.

Dated: February 15, 2008.
By order of the Federal Maritime Commission.
Karen V. Gregory,
Assistant Secretary.

[FR Doc. E8-3260 Filed 2-20-08; 8:45 am]

BILLING CODE 6730-01-P